DEPARTMENT OF HOMELAND SECURITY

Federal Emergency Management Agency

44 CFR Part 67

[Docket No. FEMA-P-7633]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Mary Jean Pajak, Federal Emergency Management Agency, 500 C Street, SW., Washington, DC 20472, (202) 646-2831.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR Part 10, Environmental Consideration. No environmental impact assessment has been prepared.

Regulatory Flexibility Act. The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet.: *(NGVD) Existing | #Depth in feet above ground. *Elevation in feet.: ◆(NAVD) Modified
IA | Ames (City) Story County | College Creek | Approximately 1,400 feet downstream of South Dakota Avenue | None | *976
|  |  | Approximately 600 feet upstream of Wilder Boulevard | None | *1,016
|  | Skunk River | Approximately 200 feet downstream of Ken Maril Road | *873 | *874
|  |  | Approximately 3 miles upstream of E. 13th Street | None | *904
|  | Squaw Creek | Approximately 2,000 feet downstream of S. Duff Avenue | *884 | *885
|  |  | Approximately 2,600 feet upstream of confluence with Onion Creek | None | *911
Maps are available for inspection at the Department of Planning and Housing, City Hall, Room 214, 515 Clark Avenue, Ames, Iowa.
Send comments to The Honorable Ted Tedesco, Mayor, City of Ames, 515 Clark Avenue, Ames, Iowa 50010.
IA | La Porte City (City) Black Hawk County | Cedar River | Approximately 2,100 feet downstream of La Porte Road | None | *814
|  |  | Approximately 6,500 feet upstream of La Porte Road | None | *815
|  | Wolf Creek | Approximately 2,100 feet downstream of Illinois Central Gulf Railroad | *816 | *815
|  |  | Approximately 7,550 feet upstream of Main Street | None | *824
|  | Wolf Creek Overflow | Approximately 2,700 feet downstream of Illinois Central Gulf Railroad | None | *815
|  |  | Approximately 1,750 feet upstream of Commercial Street | None | *823
Maps are available for inspection at the City Hall, 202 Main Street, La Porte City, Iowa.
Send comments to The Honorable Rick Lubben, Mayor, City of La Porte City, City Hall, 202 Main Street, La Porte City, Iowa 50651.
MO | Albany (City) Gentry County | East Fork Grand River |  | *847 | *848
Maps are available for inspection at City Hall, 106 East Clay Street, Albany, Missouri.
Send comments to The Honorable John Rieks, Mayor, City of Albany, 106 East Clay Street, Albany, Missouri 64402.
OH | Dublin (City) Franklin County | North Fork Indian Run | Approximately 100 feet upstream of confluence with Indian Run and South Fork Indian Run | *804 | *799
|  |  | At county boundary, approximately 1,000 feet upstream of Wareham Drive | *921 | *923
|  | South Fork Indian Run | Approximately 40 feet upstream from confluence with Indian Run and North Fork Indian Run | *804 | *799
|  |  | Approximately 400 feet upstream of confluence with Indian Run and North Fork Indian Run | *817 | *818
|  |  | Approximately 300 feet downstream of Post Road | None | *923
|  |  | Just downstream of Post Road | None | *927
|  | Indian Run | Approximately 50 feet upstream of North High Street culvert | *778 | *781
|  |  | At confluence of North Fork Indian Run and South Fork Indian Run | *803 | *799
Maps are available for inspection at the Dublin Engineering Building, 5800 Shier-Rings Road, Dublin, Ohio.
Send comments to The Honorable Thomas M. McCash, Mayor, City of Dublin, 5200 Emerald Parkway, Dublin, Ohio 43017.
WI | Fond du Lac County (Unincorporated Areas) | Anderson Creek | Approximately 200 feet upstream of U.S. Highway 45 | *751 | *750
|  |  | Just upstream of Melody Lane Crossing about 150 feet east of Pioneer Road | *797 | *802
|  | Mosher Creek | Just upstream of U.S. Highway 45 | *751 | *750
|  |  | Just downstream of Rolling Meadows Drive | None | *780
Maps are available for inspection at the Municipal Office, City/County Government Center, 160 South Macy Street, Fond du Lac, Wisconsin.
Send comments to Mr. Allen Buechel, Fond du Lac County Executive, 160 South Macy Street, Fond du Lac, Wisconsin 54935.
WI | North Fond du Lac (Village) | Anderson Creek | Approximately 1,150 feet upstream of Minnesota Avenue | *773 | *772
|  |  | Approximately 1.3 miles upstream of Minnesota Avenue | *781 | *782
|  | Mosher Creek | At the eastern corporate limit, approximately 2,000 feet downstream of Marcoe Street | *754 | *753
|  |  | Approximately 50 feet downstream of Rolling Meadows Drive | None | *780
|  | Lake Winnebago | Shoreline | None | *750
Maps are available for inspection at the Village Municipal Office, 16 Garfield Street, North Fond du Lac, Wisconsin.
Send comments to Mr. Jim Moon, Village President, Village of North Fond du Lac, 16 Garfield Street, North Fond du Lac, Wisconsin 54937.

(Catalog of Federal Domestic Assistance No. 83.100, “Flood Insurance”)
Dated: June 24, 2003.
Anthony S. Lowe,
Mitigation Division Director, Emergency Preparedness and Response Directorate.

[FR Doc. 03-16539 Filed 6-30-03; 8:45 am]

BILLING CODE 6718-04-P